DEPARTMENT OF AGRICULTURE

Forest Service

Notice of New Fee Site; Federal Lands Recreation Enhancement Act, (Title VIII, Pub. L. 108-447)

AGENCY: Bighorn National Forest, USDA Forest Service.

ACTION: Notice of New Fee Site.

SUMMARY: The Bighorn National Forest, Powder River Ranger District, is proposing to charge a $10.00 per vehicle fee (Standard Amenity Recreation Fee) for use of the site amenities at West Tensleep Trailhead. All of the amenities are in place except for trash pickup. This amenity would be in place prior to fee implementation. This trailhead is the most heavily visited access point for the Cloud Peak Wilderness on the Bighorn National Forest. Funds from the fee will be used for the continued operation and maintenance of this site including, but not limited to: restroom cleaning and maintenance, trash pickup, sign maintenance, and law enforcement presence.

DATES: If this proposal is approved fee collection would begin in the summer of 2010. Send any comments about these fee proposals by February 28, 2010 so comments can be compiled, and analyzed prior to implementation.

ADDRESSES: Forest Supervisor, Bighorn National Forest, 2013 Eastside Street, Sheridan, WY 82801.

FOR FURTHER INFORMATION CONTACT: Craig Cope, Powder River Ranger District Recreation Staff Office, 307-684-7806.

SUPPLEMENTARY INFORMATION: The Federal Recreation Lands Enhancement Act (Title VII, Pub. L. 108-447) directed the Secretary of Agriculture to publish a six month advance notice in the Federal Register whenever new recreation fee areas are established. The Bighorn National Forest currently does not charge a fee at this location. The need for Standard Amenity Fees at West Tensleep Trailhead was identified during the Recreation Facility Analysis process completed in June 2008 and is proposed to be $10.00 per vehicle. All requirements for the collection of fees as stipulated in the Federal Recreation Lands Enhancement Act will be met for this site prior to fee implementation. Comments may be submitted to “comments-bighorn@fs.fed.us” with “West Tensleep Trailhead Fee Proposal” in the subject line.

Dated: December 14, 2009.
William T. Bass,
Forest Supervisor, Bighorn National Forest.

[FR Doc. E9-30312 Filed 12-22-09; 8:45 am]

BILLING CODE 3410-11-M